SMALL BUSINESS ADMINISTRATION

Reporting and Recordkeeping Requirements Under OMB Review

AGENCY: Small Business Administration.

ACTION: Notice of reporting requirements submitted for OMB review.

SUMMARY: Under the provisions of the Paperwork Reduction Act (44 U.S.C. Chapter 35), agencies are required to submit proposed reporting and recordkeeping requirements to OMB for review and approval, and to publish a notice in the Federal Register notifying the public that the agency has made such a submission.

DATES: Submit comments on or before August 20, 2009. If you intend to comment but cannot prepare comments promptly, please advise the OMB Reviewer and the Agency Clearance Officer before the deadline.

Copies: Request for clearance (OMB 83-1), supporting statement, and other documents submitted to OMB for review may be obtained from the Agency Clearance Officer.

ADDRESSES: Address all comments concerning this notice to: Agency Clearance Officer, Jacqueline White, Small Business Administration, 409 3rd Street, SW., 5th Floor, Washington, DC 20416; and OMB Reviewer, Office of Information and Regulatory Affairs, Office of Management and Budget, New Executive Office Building, Washington, DC 20503.

FOR FURTHER INFORMATION CONTACT: Jacqueline White, Agency Clearance Officer, (202) 205-7044.

SUPPLEMENTARY INFORMATION: Title: Secondary Participation Guaranty Agreement.

SBA Form Numbers: 1086, 1502.

Frequency: On occasion.

Description of Respondents: SBA Participating Lenders.

Responses: 530.

Annual Burden: 42,000.

Title: Applications for Business Loans.

SBA Form Numbers: 4, 4SCH-A, 4I, 4L.

Frequency: On occasion.

Description of Respondents: Applicants applying for a SBA Loan.

Responses: 21,000.

Annual Burden: 295,505.

Title: Small Business Administration (SBA) Surety Bond Guarantee (SBG) Customer Survey.

SBA Form Number: N/A.

Frequency: On occasion.

Description of Respondents: SBG Program management to access program familiarity in the general small contractor population and to help determine the potential market for SBA surety bond guarantee.

Responses: 382.

Annual Burden: 13.

Jacqueline White,
Chief, Administrative Information Branch.

[FR Doc. E9-17255 Filed 7-20-09; 8:45 am]

BILLING CODE 8025-01-P